DEPARTMENT OF COMMERCE

International Trade Administration

[C-570-027, C-533-864, C-475-833, C-580-879, C-583-857]

Certain Corrosion-Resistant Steel Products From the People's Republic of China, India, Italy, the Republic of Korea, and Taiwan: Initiation of Countervailing Duty Investigations

AGENCY: Enforcement and Compliance, International Trade Administration, Department of Commerce.

DATES: Effective Date: June 30, 2015.

FOR FURTHER INFORMATION CONTACT: Myrna Lobo at (202) 482-2371 (the People's Republic of China, and the Republic of Korea); Matt Renkey or Jerry Huang at (202) 482-2312 and (202) 482-4047, respectively (India); Robert Palmer at (202) 482-9068 (Italy); Kristen Johnson at (202) 482-4793 (Taiwan), AD/CVD Operations, Enforcement and Compliance, International Trade Administration, U.S. Department of Commerce, 14th Street and Constitution Avenue NW., Washington, DC 20230.

SUPPLEMENTARY INFORMATION:

The Petitions

On June 3, 2015, the Department of Commerce (Department) received countervailing duty (CVD) petitions concerning imports of certain corrosion-resistant steel products (corrosion-resistant steel) from the People's Republic of China (PRC), India, Italy, the Republic of Korea (Korea), and Taiwan, filed in proper form on behalf of United States Steel Corporation, Nucor Corporation, Steel Dynamics, Inc., ArcelorMittal USA, LLC, AK Steel Corporation, and California Steel Industries, (collectively, Petitioners). The CVD petitions were accompanied by antidumping duty (AD) petitions also concerning imports of corrosion-resistant steel from all of the above countries.¹ Petitioners are domestic producers of corrosion-resistant steel.²

¹ See “Petitions for the Imposition of Antidumping and Countervailing Duties on Imports: Certain Corrosion-Resistant Steel Products from the People's Republic of China, India Italy, the Republic of Korea, and Taiwan,” dated June 3, 2015 (Petitions).

² See Volume I of the Petitions, at I-2 and Exhibit I-1.

On June 9 and 10, 2015, the Department requested information and clarification for certain areas of the Petitions.³ Petitioners filed responses to these requests on June 12, 2015.⁴ In addition, Petitioners filed a new subsidy allegation with respect to Korea as an Amendment to Volume V of the petition.⁵

³ See Letter from the Department to Petitioners entitled “Petition for the Imposition of Countervailing Duties on Imports of Certain Corrosion-Resistant Steel Products from the People's Republic of China (PRC): Supplemental Questions,” dated June 9, 2015 (PRC Questionnaire); Letter from the Department to Petitioners entitled “Petition for the Imposition of Countervailing Duties on Imports of Certain Corrosion-Resistant Steel Products from India: Supplemental Questions,” dated June 9, 2015 (India Questionnaire); Letter from the Department to Petitioners entitled “Petition for the Imposition of Countervailing Duties on Imports of Certain Corrosion-Resistant Steel Products from Italy: Supplemental Questions,” dated June 9, 2015 (Italy Questionnaire); Letter from the Department to Petitioners entitled “Petition for the Imposition of Countervailing Duties on Imports of Certain Corrosion-Resistant Steel Products from the Republic of Korea: Supplemental Questions,” dated June 9, 2015 (Korea Questionnaire); Letter from the Department to Petitioners entitled “Petition for the Imposition of Countervailing Duties on Imports of Certain Corrosion-Resistant Steel Products from Taiwan: Supplemental Questions,” dated June 10, 2015 (Taiwan Questionnaire); Letter from the Department to Petitioners entitled “Petitions for the Imposition of Antidumping and Countervailing Duties on Imports of Certain Corrosion-Resistant Steel Products from the People's Republic of China, India, Italy, the Republic of Korea, and Taiwan: Supplemental Questions,” dated June 9, 2015 (General Issues Questionnaire).

⁴ See Letter from Petitioners entitled “Certain Corrosion-Resistant Steel Products from the People's Republic of China, the Republic of Korea, India, Italy, and Taiwan: Response to the Department's June 9, 2015 Questionnaire Regarding Volume I of the Petitions for the Imposition of Antidumping and Countervailing Duties,” dated June 12, 2015 (General Issues Supplement); Letter from Petitioners entitled “Certain Corrosion-Resistant Steel Products from the People's Republic of China, the Republic of Korea, India, Italy, and Taiwan: Response to the Department's June 9, 2015 Questionnaire Regarding Volume III of the Petitions for the Imposition of Antidumping and Countervailing Duties,” dated June 12, 2015 (PRC Supplement); Letter from Petitioners entitled “Certain Corrosion-Resistant Steel Products from the People's Republic of China, the Republic of Korea, India, Italy, and Taiwan: Response to the Department's June 9, 2015 Questionnaire Regarding Volume VII of the Petitions for the Imposition of Antidumping and Countervailing Duties,” dated June 12, 2015 (India Supplement); Letter from Petitioners entitled “Certain Corrosion-Resistant Steel Products from the People's Republic of China, the Republic of Korea, India, Italy, and Taiwan: Response to the Department's June 9, 2015 Questionnaire Regarding Volume IX of the Petitions for the Imposition of Countervailing Duties,” dated June 12, 2015 (Italy Supplement); Letter from Petitioners entitled “Certain Corrosion-Resistant Steel Products from the People's Republic of China, the Republic of Korea, India, Italy, and Taiwan: Response to the Department's June 9, 2015 Questionnaire Regarding Volume V of the Petitions for the Imposition of Countervailing Duties,” dated June 12, 2015 (Korea Supplement); Letter from Petitioners entitled “Certain Corrosion-Resistant Steel Products from the People's Republic of China, the Republic of Korea, India, Italy, and Taiwan: Response to the Department's June 10, 2015 Questionnaire Regarding Volume XI of the Petitions for the Imposition of Countervailing Duties,” dated June 12, 2015 (Taiwan Supplement).

⁵ See Letter from Petitioners entitled “Certain Corrosion-Resistant Steel Products from the People's Republic of China, the Republic of Korea, India, Italy, and Taiwan: New Subsidy Allegation Amendment to Volume V of the Petitions for the Imposition of Countervailing Duties,” dated June 12, 2015 (Korea NSA).

In accordance with section 702(b)(1) of the Tariff Act of 1930, as amended (the Act), Petitioners allege that the Governments of the PRC (GOC), India (GOIn), Italy (GOIt), and Korea (GOK) and the Taiwan Authorities (TA) are providing countervailable subsidies (within the meaning of sections 701 and 771(5) of the Act) to imports of corrosion-resistant steel from the PRC, India, Italy, Korea and Taiwan, respectively, and that such imports are materially injuring, or threatening material injury to, an industry in the United States. Also, consistent with section 702(b)(1) of the Act, the Petitions are accompanied by information reasonably available to Petitioners supporting their allegations.

The Department finds that Petitioners filed the Petitions on behalf of the domestic industry because Petitioners are interested parties as defined in section 771(9)(C) of the Act. The Department also finds that Petitioners demonstrated sufficient industry support with respect to the initiation of the CVD investigations that Petitioners are requesting.⁶

⁶ See the “Determination of Industry Support for the Petitions” section below.

Period of Investigations

The period of investigations is January 1, 2014, through December 31, 2014.⁷

⁷ 19 CFR 351.204(b)(2).

Scope of the Investigations

The product covered by these investigations is corrosion-resistant steel from the PRC, India, Italy, Korea and Taiwan. For a full description of the scope of these investigations, see the “Scope of the Investigations” in Appendix I of this notice.

Comments on Scope of the Investigations

During our review of the Petitions, the Department issued questions to, and received responses from, Petitioners pertaining to the proposed scope to ensure that the scope language in the Petitions would be an accurate reflection of the products for which the domestic industry is seeking relief.⁸

⁸ See General Issues Questionnaire; see also General Issues Supplement.

As discussed in the preamble to the Department's regulations,⁹ we are setting aside a period for interested parties to raise issues regarding product coverage (scope). The period for scope comments is intended to provide the Department with ample opportunity to consider all comments and to consult with parties prior to the issuance of the preliminary determinations. If scope comments include factual information (see 19 CFR 351.102(b)(21)), all such factual information should be limited to public information. All such comments must be filed by 5:00 p.m. Eastern Time (ET) on July 13, 2015, which is 20 calendar days from the signature date of this notice. Any rebuttal comments, which may include factual information, must be filed by 5:00 p.m. ET on July 23, 2015, which is 10 calendar days after the initial comments deadline.

⁹ See Antidumping Duties; Countervailing Duties; Final Rule, 62 FR 27296, 27323 (May 19, 1997).

The Department requests that any factual information the parties consider relevant to the scope of the investigations be submitted during this time period. However, if a party subsequently finds that additional factual information pertaining to the scope of the investigations may be relevant, the party may contact the Department and request permission to submit the additional information. All such comments must be filed on the records of the PRC, India, Italy, Korea, and Taiwan CVD investigations, as well as the concurrent PRC, India, Italy Korea, and Taiwan AD investigations.

Filing Requirements

All submissions to the Department must be filed electronically using Enforcement and Compliance's Antidumping and Countervailing Duty Centralized Electronic Service System (ACCESS). An electronically-filed document must be received successfully in its entirety by the time and date it is due. Documents excepted from the electronic submission requirements must be filed manually (i.e., in paper form) with Enforcement and Compliance's APO/Dockets Unit, Room 18022, U.S. Department of Commerce, 14th Street and Constitution Avenue NW., Washington, DC 20230, and stamped with the date and time of receipt by the applicable deadlines.

Consultations

Pursuant to section 702(b)(4)(A)(i) of the Act, the Department notified representatives of the GOC, GOIn, GOIt, GOK, and TA of the receipt of the Petitions. Also, in accordance with section 702(b)(4)(A)(ii) of the Act, the Department provided representatives of the GOC, GOIn, GOIt, GOK, and TA the opportunity for consultations with respect to the Petitions.¹⁰ Consultations were held with the TA on June 17, 2015, with the GOIt on June 19, 2015, and with the GOK and the GOC on June 22, 2015. All memoranda regarding these consultations are on file electronically via ACCESS.

¹⁰ See Letters of Invitation from the Department to the GOC (dated June 9, 2015), GOIn (dated June 5, 2015), GOIt (dated June 5, 2015), GOK (dated June 9, 2015), and the TA (dated June 4, 2015).

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, the Department shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product,¹¹ they do so for different purposes and pursuant to a separate and distinct authority. In addition, the Department's determination is subject to limitations of time and information. Although this may result in different definitions of the like product, such differences do not render the decision of either agency contrary to law.¹²

¹¹ See section 771(10) of the Act.

¹² See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the Petitions).

With regard to the domestic like product, Petitioners do not offer a definition of the domestic like product distinct from the scope of the investigations. Based on our analysis of the information submitted on the record, we have determined that corrosion-resistant steel constitutes a single domestic like product and we have analyzed industry support in terms of that domestic like product.¹³

¹³ For a discussion of the domestic like product analysis in this case, see Countervailing Duty Investigation Initiation Checklist: Certain Corrosion-Resistant Steel Products from the People's Republic of China (PRC CVD Initiation Checklist), at Attachment II, Analysis of Industry Support for the Antidumping and Countervailing Duty Petitions Covering Certain Corrosion-Resistant Steel Products from the People's Republic of China, India, Italy, the Republic of Korea, and Taiwan (Attachment II); Countervailing Duty Investigation Initiation Checklist: Certain Corrosion-Resistant Steel Products from India (India CVD Initiation Checklist), at Attachment II; Countervailing Duty Investigation Initiation Checklist: Certain Corrosion-Resistant Steel Products from Italy (Italy CVD Initiation Checklist), at Attachment II; Countervailing Duty Investigation Initiation Checklist: Certain Corrosion-Resistant Steel Products from the Republic of Korea (Korea CVD Initiation Checklist), at Attachment II; and Countervailing Duty Investigation Initiation Checklist: Certain Corrosion-Resistant Steel Products from Taiwan (Taiwan CVD Initiation Checklist). These checklists are dated concurrently with this notice and on file electronically via ACCESS. Access to documents filed via ACCESS is also available in the Central Records Unit, Room B8024 of the main Department of Commerce building.

In determining whether Petitioners have standing under section 702(c)(4)(A) of the Act, we considered the industry support data contained in the Petitions with reference to the domestic like product as defined in the “Scope of the Investigations,” in Appendix I of this notice. Petitioners provided their shipments of the domestic like product in 2014, and estimated total shipments of the domestic like product for the entire domestic industry using data from the American Iron and Steel Institute and the ITC.¹⁴ To establish industry support, Petitioners compared their own shipments to estimated total shipments of the domestic like product for the entire domestic industry.¹⁵ Because data regarding total production of the domestic like product are not reasonably available to Petitioners and Petitioners have established that shipments are a reasonable proxy for production, we have relied on the shipment data provided by Petitioners for purposes of measuring industry support.¹⁶

¹⁴ See Volume I of the Petitions, at 2-3 and Exhibits I-3 to I-5; see also General Issues Supplement, at 12-14 and Exhibits Supp. I-3, Supp. I-40 to Supp. I-42, and Supp. I-45.

¹⁵ Id.

¹⁶ For further discussion, see PRC CVD Initiation Checklist, India CVD Initiation Checklist, Italy CVD Initiation Checklist, Korea CVD Initiation Checklist, and Taiwan CVD Initiation Checklist, at Attachment II.

On June 12, 2015, we received a submission from Thomas Steel Strip Corporation (Thomas) and Apollo Metals, Ltd. (Apollo), domestic producers of corrosion-resistant steel. In the submission, Thomas and Apollo state that they support the Petitions for the imposition of antidumping and countervailing duties on corrosion-resistant steel from the PRC, Korea, Italy and Taiwan. Thomas and Apollo do not express a view with respect to the Petitions for the imposition of antidumping and countervailing duties on corrosion-resistant steel from India. In addition, Thomas and Apollo provide their 2014 production of the domestic like product.¹⁷

¹⁷ See Letter to the Department from Thomas Steel Strip Corporation and Apollo Metals, Ltd., entitled “Corrosion-Resistant Steel Products from the People's Republic of China, the Republic of Korea, Italy, and Taiwan: Statement of Support for the Petitions and Comments Concerning Nickel-Plated Steel Products,” dated June 12, 2015.

We have relied on the data provided by Petitioners, Thomas, and Apollo for purposes of measuring industry support.¹⁸

¹⁸ See PRC CVD Initiation Checklist, India CVD Initiation Checklist, Italy CVD Initiation Checklist, Korea CVD Initiation Checklist, and Taiwan CVD Initiation Checklist, at Attachment II.

Our review of the data provided in the Petitions, General Issues supplement, the submission from Thomas and Apollo, and other information readily available to the Department indicates that Petitioners have established industry support for all of the Petitions.¹⁹ First, the Petitions established support from domestic producers (or workers) accounting for more than 50 percent of the total production of the domestic like product and, as such, the Department is not required to take further action in order to evaluate industry support (e.g., polling).²⁰ Second, the domestic producers (or workers) have met the statutory criteria for industry support under section 702(c)(4)(A)(i) of the Act for all of the Petitions because the domestic producers (or workers) who support each of the Petitions account for at least 25 percent of the total production of the domestic like product.²¹ Finally, the domestic producers (or workers) have met the statutory criteria for industry support under section 702(c)(4)(A)(ii) of the Act for all of the Petitions because the domestic producers (or workers) who support each of the Petitions account for more than 50 percent of the production of the domestic like product produced by that portion of the industry expressing support for, or opposition to, the Petitions.²² Accordingly, the Department determines that the Petitions were filed on behalf of the domestic industry within the meaning of section 702(b)(1) of the Act.

¹⁹ See PRC CVD Initiation Checklist, India CVD Initiation Checklist, Italy CVD Initiation Checklist, Korea CVD Initiation Checklist, and Taiwan CVD Initiation Checklist, at Attachment II.

²⁰ See section 702(c)(4)(D) of the Act; see also PRC CVD Initiation Checklist, India CVD Initiation Checklist, Italy CVD Initiation Checklist, Korea CVD Initiation Checklist, and Taiwan CVD Initiation Checklist, at Attachment II.

²¹ See PRC CVD Initiation Checklist, India CVD Initiation Checklist, Italy CVD Initiation Checklist, Korea CVD Initiation Checklist, and Taiwan CVD Initiation Checklist, at Attachment II.

²² Id.

The Department finds that Petitioners filed the Petitions on behalf of the domestic industry because they are interested parties as defined in section 771(9)(C) of the Act and they have demonstrated sufficient industry support with respect to the CVD investigations that they are requesting the Department initiate.²³

²³ Id.

Injury Test

Because the PRC, India, Italy, Korea, and Taiwan are “Subsidies Agreement Countries” within the meaning of section 701(b) of the Act, section 701(a)(2) of the Act applies to these investigations. Accordingly, the ITC must determine whether imports of the subject merchandise from the PRC, India, Italy, Korea, and/or Taiwan materially injure, or threaten material injury to, a U.S. industry.

Allegations and Evidence of Material Injury and Causation

Petitioners allege that imports of the subject merchandise are benefitting from countervailable subsidies and that such imports are causing, or threaten to cause, material injury to the U.S. industry producing the domestic like product. Petitioners allege that subject imports exceed the negligibility threshold of three percent provided for under section 771(24)(A) of the Act.²⁴ In CVD petitions, section 771(24)(B) of the Act provides that imports of subject merchandise from least developed countries must exceed the negligibility threshold of four percent. Petitioners also demonstrate that subject imports from India, which has been designated as a least developed country under section 771(36)(B) of the Act, exceed the negligibility threshold provided for under section 771(24)(B) of the Act.²⁵

²⁴ See Volume I of the Petitions, at 24 (footnote 87) and Exhibit I-27.

²⁵ Id.

Petitioners contend that the industry's injured condition is illustrated by reduced market share; underselling and price suppression or depression; lost sales and revenues; oversupply and inventory overhang in the U.S. market; and adverse impact on domestic industry performance.²⁶ We have assessed the allegations and supporting evidence regarding material injury, threat of material injury, and causation, and we have determined that these allegations are properly supported by adequate evidence and meet the statutory requirements for initiation.²⁷

²⁶ See Volume I of the Petitions, at 17-19, 24-43 and Exhibits I-5, I-12 and I-18 through I-27; see also General Issues Supplement, at 1 and Exhibits Supp. I-18, Supp. I-25, Supp. I-26, and Supp.I-28.

²⁷ See PRC CVD Initiation Checklist, India CVD Initiation Checklist, Italy CVD Initiation Checklist, Korea CVD Initiation Checklist, and Taiwan CVD Initiation Checklist at Attachment III, Analysis of Allegations and Evidence of Material Injury and Causation for the Antidumping and Countervailing Duty Petitions Covering Certain Corrosion-Resistant Steel Products from the People's Republic of China, India, Italy, the Republic of Korea, and Taiwan.

Initiation of Countervailing Duty Investigations

Section 702(b)(1) of the Act requires the Department to initiate a CVD investigation whenever an interested party files a CVD petition on behalf of an industry that: (1) Alleges the elements necessary for an imposition of a duty under section 701(a) of the Act; and (2) is accompanied by information reasonably available to Petitioners supporting the allegations.

Petitioners allege that producers/exporters of corrosion-resistant steel in the PRC, India, Italy, Korea, and Taiwan benefited from countervailable subsidies bestowed by the governments/authorities of these countries, respectively. The Department examined the Petitions and finds that they comply with the requirements of section 702(b)(1) of the Act. Therefore, in accordance with section 702(b)(1) of the Act, we are initiating CVD investigations to determine whether manufacturers, producers, or exporters of corrosion-resistant steel from the PRC, India, Italy, Korea, and Taiwan receive countervailable subsidies from the governments/authorities of these countries, respectively.

The PRC

Based on our review of the petition, we find that there is sufficient information to initiate a CVD investigation on 47 of the 48 alleged programs. For a full discussion of the basis for our decision to initiate or not initiate on each program, see the PRC CVD Initiation Checklist.

India

Based on our review of the petition, we find that there is sufficient information to initiate a CVD investigation on 52 of the 53 alleged programs. For a full discussion of the basis for our decision to initiate or not initiate on each program, see the India CVD Initiation Checklist.

Italy

Based on our review of the petition, we find that there is sufficient information to initiate a CVD investigation on 12 of the 14 alleged programs. For a full discussion of the basis for our decision to initiate or not initiate on each program, see the Italy CVD Initiation Checklist.

Korea

Based on our review of the petition, we find that there is sufficient information to initiate a CVD investigation on 39 of the 41 alleged programs. For a full discussion of the basis for our decision to initiate or not initiate on each program, see the Korea CVD Initiation Checklist.

Taiwan

Based on our review of the petition, we find that there is sufficient information to initiate a CVD investigation on 20 of the 22 alleged programs. For a full discussion of the basis for our decision to initiate or not initiate on each program, see the Taiwan CVD Initiation Checklist.

A public version of the initiation checklist for each investigation is available on ACCESS.

In accordance with section 703(b)(1) of the Act and 19 CFR 351.205(b)(1), unless postponed, we will make our preliminary determinations no later than 65 days after the date of this initiation.

Respondent Selection

Petitioners named 146 companies as producers/exporters of corrosion-resistant steel from the PRC, 26 from India, 7 from Italy, 11 from Korea, and 35 from Taiwan.²⁸ Following standard practice in CVD investigations, the Department will, where appropriate, select respondents based on U.S. Customs and Border Protection (CBP) data for U.S. imports of corrosion-resistant steel during the periods of investigation under the following Harmonized Tariff Schedule of the United States (HTSUS) numbers: 7210.30.0030, 7210.30.0060, 7210.41.0000, 7210.49.0030, 7210.49.0091, 7210.49.0095, 7210.61.0000, 7210.69.0000, 7210.70.6030, 7210.70.6060, 7210.70.6090, 7210.90.6000, 7210.90.9000, 7212.20.0000, 7212.30.1030, 7212.30.1090, 7212.30.3000, 7212.30.5000, 7212.40.1000, 7212.40.5000, 7212.50.0000, and 7212.60.0000. We intend to release CBP data under Administrative Protective Order (APO) to all parties with access to information protected by APO within five-business days of publication of this Federal Register notice. The Department invites comments regarding respondent selection within seven days of publication of this Federal Register notice.

²⁸ See Volume I of the Petitions, at Exhibits I-7 to I-11. For Taiwan, see also Volume XI at Exhibit XI-1.

Comments must be filed electronically using ACCESS. An electronically-filed document must be received successfully in its entirety by ACCESS, by 5 p.m. ET by the date noted above. We intend to make our decision regarding respondent selection within 20 days of publication of this notice. Interested parties must submit applications for disclosure under APO in accordance with 19 CFR 351.305(b). Instructions for filing such applications may be found on the Department's Web site at http://enforcement.trade.gov/apo.

Distribution of Copies of the Petitions

In accordance with section 702(b)(4)(A)(i) of the Act and 19 CFR 351.202(f), copies of the public version of the Petitions have been provided to the GOC, GOIn, GOIt, GOK and TA via ACCESS. To the extent practicable, we will attempt to provide a copy of the public version of the Petitions to each known exporter (as named in the Petitions), consistent with 19 CFR 351.203(c)(2).

ITC Notification

We will notify the ITC of our initiation, as required by section 702(d) of the Act.

Preliminary Determinations by the ITC

The ITC will preliminarily determine, within 45 days after the date on which the Petitions were filed, whether there is a reasonable indication that imports of corrosion-resistant steel from the PRC, India, Italy, Korea, and Taiwan are materially injuring, or threatening material injury to, a U.S. industry.²⁹ A negative ITC determination for any country will result in the investigation being terminated with respect to that country; ³⁰ otherwise, these investigations will proceed according to statutory and regulatory time limits.

²⁹ See section 703(a) of the Act.

³⁰ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The regulation requires any party, when submitting factual information, to specify under which subsection of 19 CFR 351.102(b)(21) the information is being submitted and, if the information is submitted to rebut, clarify, or correct factual information already on the record, to provide an explanation identifying the information already on the record that the factual information seeks to rebut, clarify, or correct. Time limits for the submission of factual information are addressed in 19 CFR 351.301, which provides specific time limits based on the type of factual information being submitted. Parties should review the regulations prior to submitting factual information in these investigations.

Extension of Time Limits Regulation

Parties may request an extension of time limits before the expiration of a time limit established under 19 CFR 351.301, or as otherwise specified by the Secretary. In general, an extension request will be considered untimely if it is filed after the expiration of the time limit established under 19 CFR 351.301 expires. For submissions that are due from multiple parties simultaneously, an extension request will be considered untimely if it is filed after 10:00 a.m. on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.³¹ Parties are hereby reminded that revised certification requirements are in effect for company/government officials, as well as their representatives. Investigations initiated on the basis of petitions filed on or after August 16, 2013, and other segments of any AD or CVD proceedings initiated on or after August 16, 2013, should use the formats for the revised certifications provided at the end of the Final Rule.³² The Department intends to reject factual submissions if the submitting party does not comply with the applicable revised certification requirements.

³¹ See section 782(b) of the Act.

³² See Certification of Factual Information To Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is issued and published pursuant to sections 702 and 777(i) of the Act.

Dated: June 23, 2015.
Paul Piquado,
Assistant Secretary for Enforcement and Compliance.

Attachment I

Scope of the Investigation

The products covered by this investigation are certain flat-rolled steel products, either clad, plated, or coated with corrosion-resistant metals such as zinc, aluminum, or zinc-, aluminum-, nickel- or iron-based alloys, whether or not corrugated or painted, varnished, laminated, or coated with plastics or other non-metallic substances in addition to the metallic coating. The products covered include coils that have a width of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges). For purposes of the width and thickness requirements referenced above:

(1) Where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of this investigation are products in which: (1) Iron predominates, by weight, over each of the other contained elements; (2) the carbon content is 2 percent or less, by weight; and (3) none of the elements listed below exceeds the quantity, by weight, respectively indicated:

• 2.50 percent of manganese, or

• 3.30 percent of silicon, or

• 1.50 percent of copper, or

• 1.50 percent of aluminum, or

• 1.25 percent of chromium, or

• 0.30 percent of cobalt, or

• 0.40 percent of lead, or

• 2.00 percent of nickel, or

• 0.30 percent of tungsten (also called wolfram), or

• 0.80 percent of molybdenum, or

• 0.10 percent of niobium (also called columbium), or

• 0.30 percent of vanadium, or

• 0.30 percent of zirconium

Unless specifically excluded, products are included in this scope regardless of levels of boron and titanium.

For example, specifically included in this scope are vacuum degassed, fully stabilized (commonly referred to as interstitial-free (IF)) steels and high strength low alloy (HSLA) steels. IF steels are recognized as low carbon steels with micro-alloying levels of elements such as titanium and/or niobium added to stabilize carbon and nitrogen elements. HSLA steels are recognized as steels with micro-alloying levels of elements such as chromium, copper, niobium, titanium, vanadium, and molybdenum.

Furthermore, this scope also includes Advanced High Strength Steels (AHSS) and Ultra High Strength Steels (UHSS), both of which are considered high tensile strength and high elongation steels.

All products that meet the written physical description, and in which the chemistry quantities do not exceed any one of the noted element levels listed above, are within the scope of this investigation unless specifically excluded. The following products are outside of and/or specifically excluded from the scope of this investigation:

• Flat-rolled steel products either plated or coated with tin, lead, chromium, chromium oxides, both tin and lead (“terne plate”), or both chromium and chromium oxides (“tin free steel”), whether or not painted, varnished or coated with plastics or other non-metallic substances in addition to the metallic coating;

• Clad products in straight lengths of 4.7625 mm or more in composite thickness and of a width which exceeds 150 mm and measures at least twice the thickness; and

• Certain clad stainless flat-rolled products, which are three-layered corrosion-resistant flat-rolled steel products less than 4.75 mm in composite thickness that consist of a flat-rolled steel product clad on both sides with stainless steel in a 20%-60%-20% ratio.

The products subject to the investigation are currently classified in the Harmonized Tariff Schedule of the United States (HTSUS) under item numbers: 7210.30.0030, 7210.30.0060, 7210.41.0000, 7210.49.0030, 7210.49.0091, 7210.49.0095, 7210.61.0000, 7210.69.0000, 7210.70.6030, 7210.70.6060, 7210.70.6090, 7210.90.6000, 7210.90.9000, 7212.20.0000, 7212.30.1030, 7212.30.1090, 7212.30.3000, 7212.30.5000, 7212.40.1000, 7212.40.5000, 7212.50.0000, and 7212.60.0000.

The products subject to the investigation may also enter under the following HTSUS item numbers: 7210.90.1000, 7215.90.1000, 7215.90.3000, 7215.90.5000, 7217.20.1500, 7217.30.1530, 7217.30.1560, 7217.90.1000, 7217.90.5030, 7217.90.5060, 7217.90.5090, 7225.91.0000, 7225.92.0000, 7225.99.0090, 7226.99.0110, 7226.99.0130, 7226.99.0180, 7228.60.6000, 7228.60.8000, and 7229.90.1000.

The HTSUS subheadings above are provided for convenience and customs purposes only. The written description of the scope of the investigation is dispositive.

[FR Doc. 2015-16067 Filed 6-29-15; 8:45 am]

BILLING CODE 3510-DS-P